DEPARTMENT OF TRANSPORTATION

Office of the Secretary

[Docket DOT-OST-2010-0235]

Application of Star Marianas Air, Inc. for Commuter Authority

AGENCY: Department of Transportation.

ACTION: Notice of Order to Show Cause (Order 2012-7-21).

SUMMARY: The Department of Transportation is directing all interested persons to show cause why it should not issue an order tentatively finding Star Marianas Air, Inc., fit, willing, and able to provide scheduled passenger service as a commuter air carrier using small aircraft pursuant to Part 135 of the Federal Aviation Regulations.

DATES: Persons wishing to file objections should do so no later than July 31, 2012.

ADDRESSES: Objections and answers to objections should be filed in Docket DOT-OST-2010-0235 and addressed to U.S. Department of Transportation, Docket Operations, (M-30, Room W12-140), 1200 New Jersey Avenue SE., West Building Ground Floor, Washington, DC 20590, and should be served upon the parties listed in Attachment A to the order.

FOR FURTHER INFORMATION CONTACT: Catherine J. O'Toole, Air Carrier Fitness Division (X-56, Room W86-489), U.S. Department of Transportation, 1200 New Jersey Avenue SE., Washington, DC 20590, (202) 366-9721.

Dated: July 17, 2012.
Susan L. Kurland,
Assistant Secretary for Aviation and International Affairs.

[FR Doc. 2012-18042 Filed 7-23-12; 8:45 am]

BILLING CODE P